FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 14, 2023.

A. Federal Reserve Bank of Chicago: (Colette A. Fried, Assistant Vice President) 230 South LaSalle Street, Chicago, Illinois 60690-1414. Comments can also be sent electronically to Comments.applications@chi.frb.org:

1. JFG Control, LP, a proposed qualified family partnership, the general partner of which is IPJ 2012 JFG Trust, Helen P. Johnson-Leipold, trustee, all of Racine, Wisconsin; to join the Johnson Family Control Group and acquire voting shares of Johnson Financial Group, Inc., thereby indirectly acquiring voting shares of Johnson Bank, both of Racine, Wisconsin.

B. Federal Reserve Bank of Kansas City: (Jeffrey Imgarten, Assistant Vice President) One Memorial Drive, Kansas City, Missouri 64198. Comments can also be sent electronically to CApplicationComments@kc.frb.org:

1. Shawn Grubb, Weatherford, Oklahoma, and Kenneth Baker as co-trustees of the Derek Joseph Grubb 2012 Trust, and the Jordan Alyssa Grubb 2012 Trust, all of Clinton, Oklahoma; and the Washita Valley Trust, Clinton, Oklahoma, Kenneth Baker, trustee; to become members of the Shawn Grubb Family Control Group, a group acting in concert, to acquire voting shares of Hydro Bancshares, Inc., and thereby indirectly acquire voting shares of Bank of Hydro, both of Hydro, Oklahoma. Shawn Grubb, co-trustee, has been previously approved by the Federal Reserve Board.

Board of Governors of the Federal Reserve System.
Michele Taylor Fennell,
Deputy Associate Secretary of the Board.

[FR Doc. 2023-18655 Filed 8-29-23; 8:45 am]

BILLING CODE P